INTERNATIONAL TRADE COMMISSION

Sunshine Act Meeting

[USITC SE-05-009]

Agency Holding The Meeting: International Trade Commission.

Time And Date: April 6, 2005 at 11 a.m.

Place: Room 101, 500 E. Street SW., Washington, DC 20436, Telephone: (202) 205-2000.

Status: Open to the public.

Matters To Be Considered: 1. Agenda for future meetings: none.

2. Minutes.

3. Ratification List.

4. Inv. No. 731-TA-1076 (Final) (Live Swine from Canada)—briefing and vote. (The Commission is currently scheduled to transmit its determination and Commissioners' opinions to the Secretary of Commerce on or before April 25, 2005.)

5. Outstanding action jackets: none.

In accordance with Commission policy, subject matter listed above, not disposed of at the scheduled meeting, may be carried over to the agenda of the following meeting.

Dated: Issued: March 17, 2005.
Marilyn R. Abbott,
Secretary to the Commission.

[FR Doc. 05-5703 Filed 3-18-05; 8:45 am]

BILLING CODE 7020-02-M